DEPARTMENT OF ENERGY

Federal Energy Regulatory Commission

[Docket No. RD14-14-000]

Commission Information Collection Activities; (FERC-725G1); Comment Request

AGENCY: Federal Energy Regulatory Commission.

ACTION: Comment request.

SUMMARY: In compliance with the requirements of the Paperwork Reduction Act of 1995, 44 U.S.C. 3507(a)(1)(D), the Federal Energy Regulatory Commission (Commission or FERC) is submitting its information collections FERC-725G1 to the Office of Management and Budget (OMB) for review of the information collection requirements. Any interested person may file comments directly with OMB and should address a copy of those comments to the Commission as explained below. The Commission previously issued a Notice in the Federal Register on 5/13/2015 requesting public comments. The Commission received no comments on FERC-725G1 and is making this notation in its submittal to OMB.

DATES: Comments on the collection of information are due by September 9, 2015.

ADDRESSES: Comments filed with OMB, identified by the FERC-725G1 information should be sent via email to the Office of Information and Regulatory Affairs: oira_submission@omb.gov. Attention: Federal Energy Regulatory Commission Desk Officer. The Desk Officer may also be reached via telephone at 202-395-4718.

A copy of the comments should also be sent to the Commission, in Docket No. RD14-14-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

Title: Proposed revisions FERC-725; proposed new collection FERC-725G1 (Certification of the Electric Reliability Organization and Procedures for the Establishment, Approval and Enforcement of Electric Reliability Standards; Mandatory Reliability Standards for the Bulk-Power System: Reliability Standard PRC-004-3).

OMB Control No.: 1902-0269 (FERC-725); TBD (FERC-725G1).

Abstract: On September 15, 2014, the North American Electric Reliability Corporation (NERC) submitted a petition seeking approval of a revised Protection and Control (PRC) Reliability Standard PRC-004-3—Protection System Misoperation Identification and Correction, pursuant to section 215(d)(1) of the Federal Power Act (FPA) ¹ and section 39.5 of the Commission's regulations.² The revised Reliability Standard, which replaces Reliability Standards PRC-004-2.1a (Analysis and Mitigation of Transmission and Generation Protection System Misoperations) and PRC-003-1 (Regional Procedures for Analysis of Misoperations of Transmission and Generation Protection System), requires transmission owners, generator owners, and distribution providers to identify and correct causes of misoperations of certain protection systems. NERC also requests approval of two new terms utilized in the proposed Reliability Standard, to be included in NERC's Glossary of Terms Used in NERC Reliability Standards (NERC Glossary). Finally, NERC requests approval of its implementation plan for Reliability Standard PRC-004-3, including the retirement of Reliability Standards PRC-004-2.1a and PRC-003-1, as well as approval of the associated Violation Risk Factors (VRFs) and Violation Severity Levels (VSLs). FERC determined that revised Reliability Standard PRC-004-3, including the associated new Glossary terms and implementation plan, is just, reasonable, not unduly discriminatory or preferential and in the public interest. We accept the violation severity levels associated with the standard as proposed by NERC, however, we direct NERC to submit a compliance filing, within 60 days of issuance of this order, to address the Commission's concerns with the VRF designations for Requirements R1 through R6.

¹ 16 U.S.C. § 824o(d)(1) (2012).

² 18 CFR § 39.5 (2014).

Type of Respondent: Businesses or other for-profit institutions; not-for-profit institutions.

Estimate of Annual Burden: Reliability Standard PRC-004-3 requires each transmission owner, generator owner, and distribution provider to provide notification of BES interrupting devices that operated in accordance with the Requirement R2.³ Our estimate below regarding the number of respondents is based on the NERC Compliance Registry as of January 30, 2015. According to the NERC Compliance Registry, NERC has registered in the United States 326 transmission owners (TO), 914 generator owners (GO), and 471 distribution providers (DP). However, under NERC's compliance registration program, entities may be registered for multiple functions, so these numbers incorporate some double counting. The total number of unique entities that may be identified as a notification provider (e.g., applicable entity) in accordance with Reliability Standard PRC-004-3 will be approximately 659 entities registered in the United States as a transmission owner, generator owner, and/or distribution provider.

³ Requirement R2—Each Transmission Owner, Generator Owner, and Distribution Provider that owns a BES interrupting device that operated shall, within 120 calendar days of the BES interrupting device operation, provide notification as described in Parts 2.1 and 2.2.

FERC-725G1 ⁴
| Number of respondents | Annual number of responses per respondent | Total number of responses | Average burden & cost per response ⁵ | Total annual burden hours & total annual cost | Cost per respondent ($)
| (1) | (2) | (1)*(2)=(3) | (4) | (3)*(4)=(5) | (5)÷(1)
Notifications to TO/GO/DP per Requirement R2 | 659 | 1 | 659 | 8 $584 | 5,272 $384,856 | 584
One-time review and adjustment of existing program | 659 | 1 | 659 | 2 $146 | 1,318 $96,214 | 146
Evidence Retention | 659 | 1 | 659 | 12 $384 | 7,908 $253,056 | 384
Total |  |  |  |  | 14,498 $734,126 | 1,114

⁴ FERC-725G is a currently pending request at OMB. Only one submittal can be pending OMB review under each control number, therefore, FERC-725G1 will be used for timely submittal.

⁵ The estimates for cost per response are derived using the following formula: Average Burden Hours per Response * $n per Hour = Average Cost per Response. The $73 hourly cost figure is the average of the salary plus benefits for a manager and an engineer (rounded to the nearest dollar); $32/hour is the salary plus benefits for information and record clerks. The figures are taken from the Bureau of Labor Statistics at http://bls.gov/oes/current/naics3_221000.htm.

Dated: August 4, 2015.
Nathaniel J. Davis, Sr.,
Deputy Secretary.

[FR Doc. 2015-19559 Filed 8-7-15; 8:45 am]

BILLING CODE 6717-01-P